DEPARTMENT OF ENERGY

Federal Energy Regulatory Commission

[Docket No. CP07-427-000; CP07-428-000; CP07-429-000]

PetroLogistics Natural Gas Storage, LLC; Notice of Application

August 15, 2007.

Take notice that on August 2, 2007, PetroLogistics Natural Gas Storage, LLC (PetroLogistics), 900 Fannin, Suite 2630, Houston, Texas 77010, pursuant to section 7(c) of the Natural Gas Act (NGA) and Parts 157 and 284 of the Commission's regulations, filed an abbreviated application for certificates of public convenience and necessity, seeking authority to own, operate, construct, install, and maintain a high deliverability natural gas salt dome storage cavern and header pipeline at the Bayou Choctaw storage facility in Iberville Parish, Louisiana; to provide open-access firm and interruptible storage and hub services in interstate commerce at market-based rates under 18 CFR Part 284, Subpart G; and to undertake the limited construction and operation activities permitted under 18 CFR Part 157, Subpart F. This filing is available for review at the Commission in the Public Reference Room or may be viewed on the Commission's Web site at http://www.ferc.gov using the “e-Library” link. Enter the docket number excluding the last three digits in the docket number field to access the document. For assistance, contact FERC at FERCOnlineSupport or call toll-free, (866) 208-3676, or for TTY, (202) 502-8659.

PetroLogistics proposes to offer open access firm and interruptible storage and hub services and requests authority to charge market-based rates for its proposed services. The proposed terms and conditions for Golden Triangle's services are included in the pro forma tariff included in Exhibit P of the application.

Any questions regarding this application should be directed to Randall S. Rich, Bracewell & Giuliani LLP, 2000 K Street, NW., Suite 500, Washington, DC 20006 at (202) 828-5800 or randy.rich@bgllp.com.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions via the Internet in lieu of paper. See 18 CFR 385.2001(a)(1)(iii) and the instructions on the Commission's Web (http://www.ferc.gov) site under the “e-Filing” link.

Comment Date: September 5, 2007.

Kimberly D. Bose,
Secretary.

[FR Doc. E7-16496 Filed 8-21-07; 8:45 am]

BILLING CODE 6717-01-P